DEPARTMENT OF AGRICULTURE

Natural Resources Conservation Service

[Docket No. NRCS-2024-0010]

Notice of Intent To Prepare an Environmental Impact Statement for the Elm and Turkey Creeks Watershed Project in Buffalo and Dawson Counties, Nebraska

AGENCY: Natural Resources Conservation Service, USDA.

ACTION: Notice of Intent (NOI) to prepare an Environmental Impact Statement (EIS).

SUMMARY: The Natural Resources Conservation Service (NRCS) Nebraska State Office announces its intent to prepare an EIS that will examine alternative solutions to flood risk reduction for the Elm and Turkey Creeks Project watershed plan for these watersheds near Kearney, Nebraska. The Elm Creek and Turkey Creek Watersheds face recurring flooding issues due to limited channel capacity and frequent overland flooding. A catastrophic 2019 flood caused significant damage to properties and infrastructure, with estimated losses exceeding $35 million in the Kearney area. The watershed's rural economy relies on agriculture, and addressing these challenges is crucial for managing flood impacts and protecting lives and property. NRCS is requesting comments to identify significant issues, potential alternatives, information, and analyses relevant to the proposed action from all interested individuals, Federal and State agencies, and Tribes.

DATES: We will consider comments that we receive by July 15, 2024. We will consider comments received after close of the comment period to the extent possible.

ADDRESSES: We invite you to submit comments in response to this notice. You may submit your comments through one of the methods below:

• Federal eRulemaking Portal: Go to http://www.regulations.gov and search for docket ID NRCS-2024-0010. Follow the online instructions for submitting comments; or

• Mail or Hand Delivery: Melissa Baier, Assistant State Conservationist-Water Resources and Easements, 100 Centennial Mall North, Room 343, Lincoln, Nebraska 68508. In your comments, specify the docket ID NRCS-2024-0010.

All comments received will be posted without change and made publicly available on www.regulations.gov.

FOR FURTHER INFORMATION CONTACT: Melissa Baier, telephone: (402) 437-4065; email: Melissa.Baier@usda.gov. In addition, for questions related to submitting comments via Watershed Project Coordinator: Nicole Zimmerman at (402) 437-4031; email: Nicole.zimmerman@usda.gov, or the project website at: https://storymaps.arcgis.com/stories/5a104fadbc674bda9d8f85d9c1458582.

Individuals who require alternative means for communication should contact the U.S. Department of Agriculture (USDA) Target Center at (202) 720-2600 (voice and text telephone (TTY)) or dial 711 for Telecommunications Relay service (both voice and text telephone users can initiate this call from any telephone).

SUPPLEMENTARY INFORMATION:

Purpose and Need

The primary purpose of the watershed plan is to provide flood prevention for both communities and agricultural lands in the Elm Creek and Turkey Creek Watersheds located in the jurisdiction of the Central Platte Natural Resources District (CPNRD) across Dawson and Buffalo Counties in Nebraska. The watershed is primarily used for agriculture, with 47 percent allocated to pasture and 42 percent to row crops. Agriculture sales in Buffalo and Dawson Counties accounted for approximately 5 percent of Nebraska's total of $29.4 billion in 2022. Watershed planning is authorized under the Watershed Protection and Flood Prevention Act of 1954 (Pub. L. 83-566), as amended, and the Flood Control Act of 1944 (Pub. L. 78-534).

The project is essential to create and protect wildlife habitats, contributing to biodiversity and maintaining ecological balance. By effectively managing water resources, CPNRD plays a crucial role in reducing flood risks and safeguarding lives and property. The requirements of CPNRD for watershed projects include: having the power of eminent domain, obtaining necessary permits and licenses, alternative financing, securing land treatment agreements above reservoirs, encouraging public participation, demonstrating financial commitment, implementing watershed management features, and ensuring acceptable municipal and industrial water supply standards. These authorities collectively contribute to effective watershed management and sustainable resource use.

This action is needed because areas of the Elm Creek and Turkey Creek Watersheds are repeatedly subject to damaging overland and flash flooding, including recent extensive flooding in 2019. The flood caused significant damage to properties and infrastructure, with estimated losses exceeding $35 million in the Kearney area.

As a result of the new information obtained during the development of an environmental assessment, the level of analysis is more extensive than anticipated during the scoping held in 2021. The proposed action includes work to widen a stream channel to increase capacity where significant wildlife habitat exists. In accordance with 7 CFR 650.7(a)(1), an EIS is required.

Preliminary Proposed Action and Alternatives, Including No Action

The EIS objective is to formulate and evaluate alternatives for the purpose of reducing flood risk and damages to the community of Kearney, and the Elm Creek and Turkey Creek Watershed project area. The EIS is expected to evaluate two alternatives: one action alternative and one no action alternative. The alternatives that may be considered for detailed analysis include:

• Alternative 1—No Action Alternative: Taking no action would consist of activities conducted if no federal action or funding were provided. If the No Action Alternative is selected, there would be no implementation of any flood damage reduction measures, and flood damages to communities and agricultural lands would continue. The conditions of this alternative were used as the baseline to evaluate the effectiveness of the other alternatives in reducing flooding damages. No federal action or funding would be associated with the No Action Alternative.

• Alternative 2—Proposed Action—Diversion Channels. This alternative involves creating diversion channels to redirect floodwaters away from Turkey Creek and toward the Platte River. Various potential locations for these diversion channels were explored across the watershed. Based on flood modeling, it was determined that one or more diversion channels could effectively mitigate flooding in Kearney and protect the surrounding agricultural areas. The public and landowners in the watershed also expressed support for this diversion channel approach.

Summary of Expected Impacts

The proposed action includes widening a stream channel within critical habitat of the whooping crane. Per 7 CFR 650.7(a)(1), an EIS is required for projects that include stream channel realignment or work to modify channel capacity by deepening or widening where significant aquatic or wildlife habitat exists. The NRCS Nebraska State Conservationist, has determined that the preparation of an EIS is required for this watershed project. The EIS will be prepared as required by section 102(2)(C) of the National Environmental Policy Act of 1969 (NEPA); the Council on Environmental Quality Regulations (40 CFR parts 1500-1508); and NRCS regulations that implement NEPA in 7 CFR part 650.

Resource concerns for scoping were identified and categorized as relevant or not relevant to the proposed action. CPNRD and NRCS evaluated the current conditions of the Elm Creek and Turkey Creek watersheds, which have been repeatedly subjected to flooding problems. The limited capacity of the channels is intensified by overflows from the Kearney Canal entering Turkey Creek, adding further stress to the waterways. The flat topography has led to frequent overland flooding from both Elm and Turkey Creeks, resulting in repetitive flood damaged areas outside and within the Village of Elm Creek and within the City of Kearney and surrounding areas along with relevant resource concerns for each proposed solution. Environmental resources in the project area consist of the natural and human-made environment. Resource concerns to be identified and addressed in the Watershed Plan-EIS include critical habitat for the endangered Whooping Crane (Grus americana), includes restored and federally protected roosting, foraging, and wetland habitats along the Platte River bottom. Tableland and the watershed falls into Biologically Unique Landscape, due to its potential for improved soil health, agricultural productivity, increased wildlife habitat, improved water quality, and reduced erosion and land loss indicating its unique ecological features. The EIS will guide decision-making to ensure sustainable and responsible use of the watershed, to protect the Whooping Crane, other wildlife, and the unique ecological features of the area.

Anticipated Permits and Authorizations

The following permits and authorizations are anticipated to be required:

• Federal Emergency Management Agency, Floodplain Development permit. Implementation of the proposed action would require coordination with the local floodplain administrator and may require a Floodplain Development Permit to ensure all development and engineering requirements for construction within the Special Flood Hazard Areas are implemented.

• Clean Water Act (CWA) and National Pollutant Discharge Elimination System (NPDES). The project would require water quality certification under section 401 of the CWA, permitting under section 402 of the NPDES, and section 404 of the CWA for potential wetland impacts.

• National Historic Preservation Act (NHPA) Section 106. Consultation with Tribal Nations and interested parties would be conducted as required by the NHPA.

• Nationwide Permit 43 (Stormwater Management Facilities) was identified as an appropriate permitting mechanism for this project.

• Nebraska Department of Natural Resources Dam Safety Section to review and approve applicable final engineering plans and provide a construction permit prior to construction, if necessary.

• Solid waste management and compliance, per the Nebraska Department of Energy and Environment regulations in Nebraska title 128 and title 132, must be followed during construction.

Schedule of Decision-Making Process

A Draft EIS (DEIS) will be prepared and circulated for review and comment by agencies, Tribes, consulting parties, and the public for 45 days as required by the regulations in 40 CFR 1503.1, 1502.20, 1506.11, and 1502.17, and 7 CFR 650.13. The DEIS is anticipated to be published in the Federal Register, approximately 6 months after publication of this NOI. A Final EIS is anticipated to be published within 5 months of completion of the public comment period for the DEIS.

NRCS will decide whether to implement one of the action alternatives as evaluated in the EIS. A Record of Decision will be completed after the required 30-day waiting period and will be publicly available. The responsible Federal official and decision maker for NRCS is the Nebraska NRCS State Conservationist.

Public Scoping Process

A public scoping meeting was held on February 23, 2021. Comments received, including the names and addresses of those who commented, were part of the public record. Scoping meeting presentation materials were available for review and comment for 30 days from February 23, 2021, through March 25, 2021. The date, time, and location for a second meeting will be announced on the project website.

Federal, State, Tribal, local agencies and representatives, and the public were invited to take part in the watershed plan scoping period. CPNRD and NRCS organized the public scoping meeting to provide an opportunity to review and evaluate the project alternatives, express concern, or support, and gain further information regarding the project. To determine the most viable alternatives for the EIS, CPNRD used input obtained during public scoping discussions to focus on relevant resource concerns and issues and eliminated those that were not relevant from further detailed study.

NRCS will coordinate the scoping process to correspond with section 106 of the National Historic Preservation Act (NHPA) (54 U.S.C. 306108) as allowed in 36 CFR 800.2(d)(3) and 800.8.

Identification of Potential Alternatives, Information, and Analyses

NRCS invites agencies, Tribes, consulting parties, and individuals that have special expertise, legal jurisdiction, or interest in the Elm and Turkey Creeks watersheds to provide written comments concerning the scope of the analysis and identification of potential alternatives, information, and analyses relevant to the Proposed Action.

The information about historic and cultural resources within the area potentially affected by the proposed project will assist NRCS in identifying and evaluating impacts to such resources in the context of both NEPA and NHPA.

NRCS will consult with applicable Native American tribes on a government-to-government basis in accordance with the regulations in 36 CFR 800.2 and 800.3, Executive Order 13175, and other policies. Tribal concerns, including impacts on Indian trust assets and potential impacts to cultural resources and historic properties, will be given due consideration.

Authorities

This document is published as specified by the NEPA regulations regarding publication of an NOI to issue an EIS (40 CFR 1501.9(d)). Watershed planning is authorized under the Watershed Protection and Flood Prevention Act of 1954, as amended and the Flood Control Act of 1944.

Federal Assistance Programs

The title and number of the Federal Assistance Program as found in the Assistance Listing ¹ to which this document applies is 10.904, Watershed Protection and Flood Prevention.

¹ See https://sam.gov/content/assistance-listings.

Executive Order 12372

Executive Order 12372, “Intergovernmental Review of Federal Programs,” requires consultation with State and local officials that would be directly affected by proposed Federal financial assistance. The objectives of the Executive order are to foster an intergovernmental partnership and a strengthened federalism, by relying on State and local processes for State and local government coordination and review of proposed Federal financial assistance and direct Federal development. This project is subject to the provisions of Executive Order 12372, which requires intergovernmental consultation with State and local officials.

USDA Non-Discrimination Policy

In accordance with Federal civil rights law and USDA civil rights regulations and policies, USDA, its agencies, offices, and employees, and institutions participating in or administering USDA programs are prohibited from discriminating based on race, color, national origin, religion, sex, gender identity (including gender expression), sexual orientation, disability, age, marital status, family or parental status, income derived from a public assistance program, political beliefs, or reprisal or retaliation for prior civil rights activity, in any program or activity conducted or funded by USDA (not all bases apply to all programs). Remedies and complaint filing deadlines vary by program or incident.

Individuals who require alternative means of communication for program information (for example, braille, large print, audiotape, American Sign Language, etc.) should contact the responsible Agency or USDA TARGET Center at (202) 720-2600 (voice and telephone) or dial 711 for Telecommunications Relay Service (both voice and text telephone users can initiate this call from any phone). Additionally, program information may be made available in languages other than English.

To file a program discrimination complaint, complete the USDA Program Discrimination Complaint Form, AD-3027, found online at: https://www.usda.gov/oascr/how-to-file-a-program-discrimination-complaint and at any USDA office or write a letter addressed to USDA and provide in the letter all the information requested in the form. To request a copy of the complaint form, call (866) 632-9992. Submit your completed form or letter to USDA by: (1) mail to: U.S. Department of Agriculture, Office of the Assistant Secretary for Civil Rights, 1400 Independence Avenue SW, Washington, DC 20250-9410; (2) Fax: (202) 690-7442; or (3) email: program.intake@usda.gov.

USDA is an equal opportunity provider, employer, and lender.

Robert D. Lawson,
Nebraska State Conservationist, Natural Resources Conservation Service.

[FR Doc. 2024-13128 Filed 6-13-24; 8:45 am]

BILLING CODE 3410-16-P